DEPARTMENT OF DEFENSE

Office of the Secretary

[Transmittal No. 22-36]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 22-36, Policy Justification, and Sensitivity of Technology.

Dated: September 9, 2024.
Aaron T. Siegel,
Alternate OSD Federal Register Liaison Officer, Department of Defense.

BILLING CODE 6001-FR-P

BILLING CODE 6001-FR-C

Transmittal No. 22-36

Notice of Proposed Issuance of Letter of Offer Pursuant to Section 36(b)(1) of the Arms Export Control Act, as amended

(i) Prospective Purchaser: Government of Qatar

(ii) Total Estimated Value:

Major Defense Equipment * | $.075 billion
Other | $.925 billion
TOTAL | $1.000 billion

Funding Source: National Funds

(iii) Description and Quantity or Quantities of Articles or Services under Consideration for Purchase: The Government of Qatar has requested to buy ten (10) Fixed Site-Low, Slow, Small Unmanned Aircraft System Integrated Defeat System (FS-LIDS) System of Systems, to include:

Major Defense Equipment (MDE):

Two hundred (200) Coyote Block 2 Interceptors

Non-MDE:

Also included is the Counter Unmanned Electronic Warfare System (CUAEWS); Coyote launchers; Ku Band Multi-function Radio Frequency System (KuMRFS) radars; Forward Area Air Defense Command and Control (FAAD C2); Counter Unmanned Electronic Warfare Systems (CUAEWS); E.O./IR cameras; support and test equipment; integration and test support; spare and repair parts; communications equipment; software delivery and support; facilities and construction support; publications and technical documentation; personnel training and training equipment; U.S. Government and contractor engineering; technical and logistics support services; studies and surveys; maintenance services; and other related elements of logistical and program support.

(iv) Military Department: Army (QA-B-UAV)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: November 29, 2022

* As defined in Section 47(6) of the Arms Export Control Act.

POLICY JUSTIFICATION

Qatar—Fixed Site-Low, Slow, Small Unmanned Aircraft System Integrated Defeat System (FS-LIDS)

The Government of Qatar has requested to buy ten (10) Fixed Site-Low, Slow, Small Unmanned Aircraft System Integrated Defeat System (FS-LIDS) System of Systems, to include: two hundred (200) Coyote Block 2 interceptors. Also included is the Counter Unmanned Electronic Warfare System (CUAEWS); Coyote launchers; Ku Band Multi-function Radio Frequency System (KuMRFS) radars; Forward Area Air Defense Command and Control (FAAD C2); Counter Unmanned Electronic Warfare Systems (CUAEWS); E.O./IR cameras; support and test equipment; integration and test support; spare and repair parts; communications equipment; software delivery and support; facilities and construction support; publications and technical documentation; personnel training and training equipment; U.S. Government and contractor engineering; technical and logistics support services; studies and surveys; maintenance services; and other related elements of logistical and program support. The total estimated program cost is $1 billion.

This proposed sale will support the foreign policy and national security objectives of the United States by helping to improve the security of a friendly country that continues to be an important force for political stability and economic progress in the Middle East.

The proposed sale will improve Qatar's capability to meet current and future threats by providing electronic and kinetic defeat capabilities against Unmanned Aircraft Systems. Qatar will have no difficulty absorbing these articles and/or services into its armed forces.

The proposed sale of this equipment and support will not alter the basic military balance in the region.

The principal contractors will be Raytheon, Huntsville AL; SRC, Huntsville, AL; and Northrop Grumman, Huntsville, AL. There are no known offset agreements proposed in connection with this potential sale.

Implementation of this proposed sale will require the assignment of five (5) additional U.S. Government and fifteen (15) U.S. contractor representatives to Qatar for a duration of five (5) years to support fielding, training, and sustainment activities.

There will be no adverse impact on U.S. defense readiness as a result of this proposed sale.

Transmittal No. 22-36

Notice of Proposed Issuance of Letter of Offer Pursuant to Section 36(b)(1) of the Arms Export Control Act

Annex

Item No. vii

(vii) Sensitivity of Technology:

1. The Fixed Site-Low, Slow, Small Unmanned Aircraft System Integrated Defeat System (FS-LIDS) is a Counter Unmanned Aircraft System of Systems. It provides defeat capabilities against Unmanned Aircraft vehicles.

2. The Counter Unmanned Electronic Warfare System (CUAEWS) is a Counter Unmanned Aircraft defeat system. It provides signal disruption and jamming of position, timing, navigation, command link and video downlink signals to/from the ground command station.

3. The Coyote Launcher is a high speed, highly maneuverable, semi-active guided airframe with a proximity blast fragmentation warhead. It provides a kinetic defeat capability against Counter Unmanned Aircraft threats.

4. The Coyote Interceptor is a Counter Unmanned Aircraft kinetic missile that provides kinetic defeat capabilities against Unmanned Aircraft vehicles.

5. The Ku Band Multi-function Radio Frequency System (KuMURFS) is a multi-function radar. It provides three-dimensional target location to provide situational awareness for command-and-control systems and guidance used by the Coyote Block-2 Interceptor.

6. The highest level of classification of defense articles, components, and services included in this potential sale is SECRET.

7. If a technologically advanced adversary were to obtain knowledge of the specific hardware and software elements, the information could be used to develop countermeasures that might reduce weapon system effectiveness or be used in the development of a system with similar or advanced capabilities.

8. A determination has been made that Qatar can provide substantially the same degree of protection for the sensitive technology being released as the U.S. Government. This sale is necessary in furtherance of the U.S. foreign policy and national security objectives outlined in the Policy Justification.

9. All defense articles and services listed in this transmittal have been authorized for release and export to the Government of Qatar.

[FR Doc. 2024-20725 Filed 9-11-24; 8:45 am]

BILLING CODE 6001-FR-P